DEPARTMENT OF HOUSING AND URBAN DEVELOPMENT

[Docket No. FR-4572-D-11]

Order of Succession

AGENCY: Office of the Assistant Secretary for Fair Housing and Equal Opportunity, HUD.

ACTION: Notice of Order of Succession.

SUMMARY: In this notice, the Assistant Secretary for Fair Housing and Equal Opportunity designates the Order of Succession for the office of Fair Housing and Equal Opportunity. This Order of Succession supersedes the Order of Succession for the Assistant Secretary for Fair Housing and Equal Opportunity, published at 65 FR 16952 (March 30, 2000).

EFFECTIVE DATE: August 3, 2000.

FOR FURTHER INFORMATION CONTACT: Deborah R. Harrison, Administrative Officer, Office of Fair Housing and Equal Opportunity, Budget and Administrative Support Division, Department of Housing and Urban Development, Room 5124, 451 7th Street, SW., Washington, DC 20410, (202) 708-2701. (This is not a toll-free number). This number may be accessed via TTY by calling the Federal Information Relay Service at 1-800-877-8339 (toll-free).

SUPPLEMENTARY INFORMATION: The Assistant Secretary for Fair Housing and Equal Opportunity is issuing this Order of Succession of officials authorized to perform the functions and duties of the Office of the Assistant Secretary for Fair Housing and Equal Opportunity when, by reason of absence, disability, or vacancy in office, the Assistant Secretary is not available to exercise the powers or perform the duties of the office. This Order of Succession is subject to the provisions of the Federal Vacancies Reform Act of 1998, 5 U.S.C. 3345-3349d. This publication supersedes the Order of Succession notice on March 30, 2000 at 65 FR 16952.

Accordingly, the Assistant Secretary for Fair Housing and Equal Opportunity designates the following Order of Succession:

Section A. Order of Succession

Subject to the provisions of the Federal Vacancies Reform Act of 1998, during any period when, by reason of absence, disability, or vacancy in office, the Assistant Secretary for Fair Housing and Equal Opportunity is not available to exercise the powers or perform the duties of the Office of Assistant Secretary for Fair Housing and Equal Opportunity, the following officials within the Office of Fair Housing and Equal Opportunity are hereby designated to exercise the powers and perform the duties of the Office:

(1) General Deputy Assistant Secretary;

(2) Deputy Assistant Secretary for Operations and Management;

(3) Deputy Assistant Secretary for Enforcement and Program;

(4) Deputy Assistant Secretary for Economic Development;

(5) Director, Office of Enforcement;

(6) Director, Policy and Program Evaluation Staff;

(7) Director, Office of Programs;

(8) Director, Field Oversight Staff; and

(9) Director, Office of Management and Planning

These officials shall perform the functions and duties of the Office in the order specified herein, and no official shall serve unless all the other officials, whose position titles precede his/hers in this order, are unable to act by reason of absence, disability, or vacancy in office.

Section B. Authority Superseded

This Order of Succession supersedes the Order of Succession for the Assistant Secretary for Fair Housing and Equal Opportunity, published at 65 FR 16952 (March 30, 2000).

Authority: Section 7(d), Department of Housing and Urban Development Act, 42 U.S.C. Sec. 3535(d).

Dated: August 3, 2000.
Eva M. Plaza,
Assistant Secretary for Fair Housing and Equal Opportunity.

[FR Doc. 00-28310 Filed 11-3-00; 8:45 am]

BILLING CODE 4210-28-M